DEPARTMENT OF HOUSING AND URBAN DEVELOPMENT

[Docket No. FR-5415-N-01]

Notice of Availability: Notice of HUD's Fiscal Year (FY) 2010 Notice of Funding Availability (NOFA); Policy Requirements and General Section to HUD's FY2010 NOFAs for Discretionary Programs

AGENCY: Office of the Secretary, HUD.

ACTION: Notice.

SUMMARY: Through this notice, HUD announces the availability on its Web site of its FY2010 Notice of Funding Availability (NOFA) Policy Requirements and General Section to HUD's FY2010 NOFAs for Discretionary Programs (General Section). The General Section provides prospective applicants for HUD's FY2010 competitive funding the opportunity to become familiar with the policies and requirements applicable to all of the NOFAs that HUD will publish in FY2010. The General Section also describes HUD's FY2010 policy priorities. HUD's FY2010 policy priorities are based on its new Strategic Plan for FY2010-2015, and support: (1) Job Creation/Employment; (2) Sustainability; (3) Affirmatively Furthering Fair Housing; (4) Capacity Building and Knowledge Sharing; (5) Using Housing as a Platform for Improving Other Outcomes; and (6) Expanding Cross-Cutting Policy Knowledge. Detailed information on HUD's Strategic Plan for FY2010-2015 is available at: http://portal.hud.gov/portal/page/portal/HUD/program_offices/cfo/stratplan.

HUD's General Section also provides prospective applicants information regarding submission requirements for FY2010. All of this information is provided to assist prospective applicants in planning successful applications.

The General Section notice is available on the HUD Web site at http://portal.hud.gov/portal/page/portal/HUD/program_offices/administration/grants/fundsavail and on the Grants.gov Web site at http://www.grants.gov/search/.

FOR FURTHER INFORMATION CONTACT: For further information on HUD's FY2010 Policy Requirements and General Section, contact the Office of Departmental Grants Management and Oversight, Office of Administration, Department of Housing and Urban Development, 451 7th Street, SW., Room 3156, Washington, DC 20410-5000; telephone number 202-708-0667. This is not a toll-free number. Persons with hearing or speech impairments may access this number via TTY by calling the Federal Information Relay Service at 800-877-8339.

Dated: June 4, 2010.
Ron Sims,
Deputy Secretary.

[FR Doc. 2010-14004 Filed 6-10-10; 8:45 am]

BILLING CODE 4210-67-P